DEPARTMENT OF COMMERCE

National Oceanic and Atmospheric Administration

RIN 0648-XG843

Pacific Fishery Management Council; Public Meeting

AGENCY: National Marine Fisheries Service (NMFS), National Oceanic and Atmospheric Administration (NOAA), Commerce.

ACTION: Notice of public meeting (webinar).

SUMMARY: The Pacific Fishery Management Council (Pacific Council) will hold a webinar meeting to review the 2019 update stock assessment for Pacific sardine. This webinar is open to the public.

DATES: The webinar will be held Thursday, March 28, 2019, from 9 a.m. to 12 p.m., or until business for the day has been completed.

ADDRESSES: The meeting will be held via webinar. A public listening station is available at the Pacific Council office (address below). To attend the webinar, use this link: https://www.gotomeeting.com/webinar (Click “Join a Webinar” in top right corner of page); (1) Enter the Webinar ID: 542-314-675; (2) Enter your name and email address (required). You must use your telephone for the audio portion of the meeting by dialing this TOLL number 1-562-247-8321; (3) Enter the Attendee phone audio access code 272-446-524; (4) Enter your audio phone pin (shown after joining the webinar). NOTE: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The purpose of the meeting is to review the 2019 update stock assessment for Pacific sardine. The Coastal Pelagic Species (CPS) Subcommittee of the Pacific Council's Scientific and Statistical Committee will conduct the review, and will follow the Pacific Council's Terms of Reference for Stock Assessment Reviews. The Pacific Council will use the 2019 assessment to establish Pacific sardine fishery management measures and harvest specifications for the 2019-20 fishing year, which begins July 1 and ends the following June 30 each year. Representatives of the Pacific Council's CPS Management Team and the CPS Advisory Subpanel will also participate in the review, as advisers.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at kris.kleinschmidt@noaa.gov or (503) 820-2411, at least 10 days prior to the meeting date.

Dated: March 8, 2019.
Tracey L. Thompson,
Acting Deputy Director, Office of Sustainable Fisheries, National Marine Fisheries Service.

[FR Doc. 2019-04580 Filed 3-12-19; 8:45 am]

BILLING CODE 3510-22-P